Title 3—

The President

Notice of March 12, 2018

Continuation of the National Emergency With Respect to Iran

On March 15, 1995, by Executive Order 12957, the President declared a national emergency with respect to Iran to deal with the unusual and extraordinary threat to the national security, foreign policy, and economy of the United States constituted by the actions and policies of the Government of Iran. On May 6, 1995, the President issued Executive Order 12959, imposing more comprehensive sanctions on Iran to further respond to this threat. On August 19, 1997, the President issued Executive Order 13059, consolidating and clarifying those earlier orders. The President took additional steps pursuant to this national emergency through Executive Order 13553 of September 28, 2010, Executive Order 13574 of May 23, 2011, Executive Order 13590 of November 20, 2011, Executive Order 13599 of February 5, 2012, Executive Order 13606 of April 22, 2012, Executive Order 13608 of May 1, 2012, Executive Order 13622 of July 30, 2012, Executive Order 13628 of October 9, 2012, and Executive Order 13645 of June 3, 2013.

On July 14, 2015, the P5+1 (China, France, Germany, Russia, the United Kingdom, and the United States), the European Union, and Iran agreed to a Joint Comprehensive Plan of Action (JCPOA) to ensure that Iran's nuclear program remains exclusively peaceful. On January 16, 2016, Implementation Day under the JCPOA, the United States lifted nuclear-related sanctions on Iran, by terminating a number of Executive Orders that had been issued pursuant to this national emergency and by taking other actions. Though these measures constitute a significant change in our sanctions posture, comprehensive non-nuclear-related sanctions with respect to Iran remain in place.

Actions and policies of the Government of Iran, including its development of ballistic missiles, support for international terrorism, and human rights abuses continue to pose an unusual and extraordinary threat to the national security, foreign policy, and economy of the United States.

For this reason, the national emergency declared on March 15, 1995, must continue in effect beyond March 15, 2018. Therefore, in accordance with section 202(d) of the National Emergencies Act (50 U.S.C. 1622(d)), I am continuing for 1 year the national emergency with respect to Iran declared in Executive Order 12957. The emergency declared by Executive Order 12957 constitutes an emergency separate from that declared on November 14, 1979, by Executive Order 12170, in connection with the hostage crisis. This renewal, therefore, is distinct from the emergency renewal of November 2017.

This notice shall be published in the Federal Register and transmitted to the Congress.

THE WHITE HOUSE,

March 12, 2018.

[FR Doc. 2018-05340

Filed 3-13-18; 11:15 am]

Billing code 3295-F8-P